NATIONAL AERONAUTICS AND SPACE ADMINISTRATION

[Notice 12-095]

NASA Advisory Council; Audit, Finance and Analysis Committee; Meeting

AGENCY: National Aeronautics and Space Administration.

ACTION: Notice of Meeting.

SUMMARY: In accordance with the Federal Advisory Committee Act, Public Law 92-463, as amended, the National Aeronautics and Space Administration announces a meeting of the Audit, Finance and Analysis Committee of the NASA Advisory Council.

DATES: Monday, November 26, 2012, 9:00 a.m.-5:15 p.m., Local Time.

ADDRESS: NASA Headquarters. 300 E Street SW., Conference Room 8E40, Washington DC 20546.

FOR FURTHER INFORMATION CONTACT: Ms. Charlene Williams, Office of the Chief Financial Officer, National Aeronautics and Space Administration Headquarters, Washington, DC 20546. Phone: 202-358-2183.

SUPPLEMENTARY INFORMATION: The agenda for the meeting includes briefings on the following topics:

• FY 2012 Financial Statement Audit

• FY 2013 Financial Management Initiatives

• Administrative Savings

• NASA Budget

• Government Accounting Office High Risk List

• Financial System Initiative

It is imperative that the meeting be held on these dates to accommodate the scheduling priorities of the key participants. Attendees will be requested to sign a register and to comply with NASA security requirements, including the presentation of a valid picture ID to NASA Security before access to NASA Headquarters. Foreign Nationals attending this meeting will be required to provide a copy of their passport and visa in addition to providing the following information no later than November 21, 2012: full name; gender; date/place of birth; citizenship; visa information (number, type, expiration date); passport information (number, country, expiration date); employer/affiliation information (name of institution, address, country, telephone); title/position of attendee; and home address to Charlene Williams at fax: (202) 358-4336. U.S. Citizens and Permanent Residents (green card holders) are requested to submit their name and affiliation 3 working days prior to the meeting to Charlene Williams.

Patricia D. Rausch,
Advisory Committee Management Officer, National Aeronautics and Space Administration.

[FR Doc. 2012-27487 Filed 11-9-12; 8:45 am]

BILLING CODE P